ELECTION ASSISTANCE COMMISSION

Sunshine Act Meetings

AGENCY: U.S. Election Assistance Commission.

ACTION: Sunshine act notice; notice of public hearing agenda.

SUMMARY: The U.S. Election Assistance Commission is holding an virtual hearing, titled “VVSG 2.0 Requirements Hearing 3: Manufacturers, Technology, & Testing Labs.”

DATES: Wednesday, May 20, 2020 1:30 p.m.-3:30 p.m. Eastern

ADDRESSES: Virtual via Zoom.

The hearing is open to the public and will be livestreamed on the U.S. Election Assistance Commission YouTube Channel: https://www.youtube.com/channel/UCpN6i0g2rlF4ITWhwvBwwZw.

FOR FURTHER INFORMATION CONTACT: Jerome Lovato, Telephone: (301) 960-1216, Email: jlovato@eac.gov.

SUPPLEMENTARY INFORMATION: Purpose: In accordance with the Government in the Sunshine Act (Sunshine Act), Public Law 94-409, as amended (5 U.S.C. 552b), the U.S. Election Assistance Commission (EAC) will conduct a virtual hearing to discuss the proposed Voluntary Voting System Guidelines (VVSG) 2.0 Requirements as submitted by the Technical Guidelines Development Committee (TGDC).

Agenda: The U.S. Election Assistance Commission (EAC) will host a third virtual hearing to discuss the proposed VVSG 2.0 Requirements. This hearing will include panels with manufacturers to discuss building the next generation of voting systems to the new requirements, the associated timelines, general information on the anticipated feasibility for the manufacturers, an assessment of the currently proposed technology in the requirements, and ultimately the testing of the voting system.

Commissioners will also hear from members of the public who wish to offer verbal testimony on the VVSG 2.0 requirements. Public testimony during the hearing will be limited to 5 minutes maximum per person. If you would like to participate in public testimony, please contact Jerome Lovato (jlovato@eac.gov) with your full name and phone number no later than 5 p.m. Eastern Time on May 19, 2020.

The VVSG 2.0 Requirements are currently published for a 90-day public comment period that concludes on June 22nd. The first VVSG public hearing on March 27, 2020 covered an introduction to the VVSG process as well a high-level overview of the proposed VVSG 2.0 requirements. A recording of the hearing is available on the EAC's website. The second public hearing on May 6, 2020 addressed the importance of VVSG 2.0 at the state and local level, and the consideration of accessibility and security in VVSG 2.0. A recording of the second hearing is available on the EAC's website.

The TGDC unanimously approved to recommend VVSG 2.0 Requirements on February 7, 2020, and sent the Requirements to the EAC Acting Executive Director via the Director of the National Institute of Standards and Technology (NIST), in the capacity of the Chair of the TGDC on March 9, 2020. Upon adoption, the VVSG 2.0 would become the fifth iteration of national level voting system standards. The Federal Election Commission published the first two sets of federal standards in 1990 and 2002. The EAC then adopted Version 1.0 of the VVSG on December 13, 2005. In an effort to update and improve version 1.0 of the VVSG, on March 31, 2015, the EAC commissioners unanimously approved VVSG 1.1. The full agenda will be posted in advance on the EAC website: https://www.eac.gov.

Status: This hearing will be open to the public.

Amanda Joiner,
Associate Counsel, U.S. Election Assistance Commission.

[FR Doc. 2020-10576 Filed 5-13-20; 11:15 am]

BILLING CODE P